Title 3—

The President

Presidential Determination No. 2001-22 of July 26, 2001

Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $27 million be made available from the U.S. Emergency Refugee and Migration Assistance Fund to meet unexpected urgent refugee and migration needs, including those of refugees, displaced persons, conflict victims, and other persons at risk due to the situations in Guinea, Sierra Leone, Eritrea, and Afghanistan. These funds may be used, as appropriate, to provide contributions to international, governmental, and nongovernmental organizations, and as necessary, for administrative expenses of the Bureau of Population, Refugees, and Migration. Of the $27 million hereby determined, not more than $5 million shall be reserved on a contingency basis in order to allow for immediate United States response to unexpected urgent refugee and migration needs.

You are authorized and directed to inform the appropriate committees of the Congress of this determination and the obligation of funds under this authority, and to arrange for the publication of this memorandum in the Federal Register.

B

THE WHITE HOUSE,

Washington, July 26, 2001.

[FR Doc. 01-19498

Filed 8-1-01; 8:45 am]

Billing code 4710-10-M